DEPARTMENT OF HOMELAND SECURITY

Federal Emergency Management Agency

[Docket ID FEMA-2010-0006]

Agency Information Collection Activities: Proposed Collection; Comment Request, 1660-NEW; FEMA Preparedness Grants: State Homeland Security Program (SHSP) Tribal

AGENCY: Federal Emergency Management Agency, DHS.

ACTION: Notice; 60-day notice and request for comments; new information collection; OMB No. 1660-NEW; FEMA Form 089-22, SHSP-Tribal Investment Justification Template.

SUMMARY: The Federal Emergency Management Agency, as part of its continuing effort to reduce paperwork and respondent burden, invites the general public and other Federal agencies to take this opportunity to comment on a proposed new information collection. In accordance with the Paperwork Reduction Act of 1995, this Notice seeks comments concerning the State Homeland Security Program (SHSP) Tribal.

DATES: Comments must be submitted on or before April 26, 2010.

ADDRESSES: To avoid duplicate submissions to the docket, please use only one of the following means to submit comments:

(1) Online. Submit comments at http://www.regulations.gov under docket ID FEMA-2010-0006. Follow the instructions for submitting comments.

(2) Mail. Submit written comments to Office of Chief Counsel, Regulation and Policy Team, DHS/FEMA, 500 C Street, SW., Room 835, Washington, DC 20472-3100.

(3) Facsimile. Submit comments to (703) 483-2999.

(4) E-mail. Submit comments to FEMA-POLICY@dhs.gov. Include docket ID FEMA-2010-0006 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available via a link in the footer of http://www.regulations.gov.

FOR FURTHER INFORMATION CONTACT: Stacey Street, Program Analyst, Grant Programs Directorate, 202-786-9728 for additional information. You may contact the Office of Records Management for copies of the proposed collection of information at facsimile number (202) 646-3347 or e-mail address: FEMA-Information-Collections@dhs.gov.

SUPPLEMENTARY INFORMATION: FEMA's State Homeland Security Program (SHSP) Tribal is authorized by Sections 2004 and 2005 of the Homeland Security Act of 2002, as amended by Section 101, Title I of the Implementing Recommendations of the 9/11 Commission Act of 2007, Public Law 110-53 (6 U.S.C. 605 and 606). SHSP provides supplemental funding to eligible tribes to help strengthen the Nation against risks associated with potential terrorist attacks. SHSP support building and sustaining capabilities at the State and Local levels through planning, equipment, training, and exercise activities, and help states to implement the strategic goals and objectives included in the State Homeland Security Strategies. This law empowers FEMA Administrator to make grant awards directly to eligible tribes and requires the Administrator to accept appropriate application data submitted by eligible tribes similar to the SHSP application requirements of States, such as:

○ The purpose for which the State seeks grant funds and the reasons why the State needs the grant to meet its target capabilities;

○ A description of how the State plans to allocate the grant funds to local governments and Indian tribes;

○ A budget showing how the State intends to expend the grant funds; and

○ A directly eligible tribe must provide a copy of its application to each State within which any part of the tribe is located for review before the tribe submits such application to the Department.

Collection of Information

Title: FEMA Preparedness Grants: State Homeland Security Program (SHSP) Tribal.

Type of Information Collection: New information collection.

OMB Number: 1660-NEW.

Form Titles and Numbers: FEMA Form 089-22, SHSP-Tribal Investment Justification Template.

Abstract: The SHSP-Tribal provides supplemental funding to directly eligible tribes to help strengthen the nation against risks associated with potential terrorist attacks. This program provides funds to build capabilities at the State & local levels and implement goals and objectives included in state homeland security strategies.

Affected Public: State, Local, or Tribal Government.

Estimated Total Annual Burden Hours: 12,007 hours.

Table A.12—Estimated Annualized Burden Hours and Costs
Type of respondent | Form name/form number | No. of respondents | No. of responses per respondent | Total no. of responses | Avg. burden per response (in hours) | Total annual burden (in hours) | Avg. hourly wage rate* | Total annual respondent cost
State, Local or Tribal Government | SHSP—Tribal Investment Justification Template, FEMA Form 089-22 | 40 | 1 | 40 | 300 | 12,000 | $37.80 | $453,600.00
State, Local or Tribal Government | Copy of Application provided to State prior to submission/No Form | 40 | 1 | 40 | 0.167 (10 mins.) | 7 | $37.80 | $264.60
Total |  | 80 |  |  |  | 12,007 |  | $453,864.60

Estimated Cost: There is no annual reporting recordkeeping cost associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Office of Records Management, Office of Management, Federal Emergency Management Agency, Department of Homeland Security.

[FR Doc. 2010-3598 Filed 2-23-10; 8:45 am]

BILLING CODE 9111-78-P